DEPARTMENT OF ENERGY

Fusion Energy Sciences Advisory Committee

AGENCY: Office of Science, Department of Energy.

ACTION: Notice of Open Teleconference Meeting.

SUMMARY: This notice announces a teleconference meeting of the Fusion Energy Sciences Advisory Committee (FESAC). The Federal Advisory Committee Act (Pub. L. 92-463, 86 Stat.770) requires that public notice of these meetings be announced in the Federal Register.

DATES: Monday, June 16, 2014, 12:00 noon to 4:00 p.m. EDT.

ADDRESSES: Public participation is welcomed. Information concerning the call-in number can be found on the Web site: http://science.energy.gov/fes/fesac/meetings/ or by contacting Mr. Samuel J. Barish by email sam.barish@science.doe.gov or by phone (301) 903-2917.

FOR FURTHER INFORMATION CONTACT: Dr. Edmund J. Synakowski, Designated Federal Officer, FESAC, U.S. Department of Energy, Office of Science, Office of Fusion Energy Sciences, SC-24/Germantown Building, 1000 Independence Avenue SW., Washington, DC 20585-1290. Phone 301-903-4941; fax (301) 903-8584 or email: ed.synakowski@science.doe.gov.

SUPPLEMENTARY INFORMATION:

Purpose of the Meeting: To complete the charge given to the Committee in the letter from the Acting Director, Office of Science, dated February 19, 2014 to the FESAC Chair asking FESAC assistance in identifying disciplines in which significantly greater emphasis in workforce training at the graduate student or postdoc levels is necessary to address gaps in current and future Office of Science mission needs.

Tentative Agenda Topics:

• Approval of the Report of the Workforce Development Needs Panel (http://science.energy.gov/~/media/fes/fesac/pdf/2014/FESAC_Charge_Feb_19_2014.pdf)

• Other Business as Necessary

• Public Comments

• Adjourned

Public Participation: The teleconference meeting is open to the public. If you would like to file a written statement with the Committee, you may do so either before or after the meeting. If you would like to make oral statements regarding the item on the agenda, you should contact Sam Barish at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of the meeting will be available for public review and copying within 45 days the Fusion Energy Sciences Advisory Committee Web site— http://science.energy.gov/fes/fesac/.

Issued at Washington, DC, on May 23, 2014.
LaTanya R. Butler,
Deputy Committee Management Officer.

[FR Doc. 2014-12683 Filed 5-30-14; 8:45 am]

BILLING CODE 6450-01-P